FEDERAL TRADE COMMISSION

[File No. 132 3120]

Craig Brittain, Individually; Analysis of Proposed Consent Order To Aid Public Comment

AGENCY: Federal Trade Commission.

ACTION: Proposed consent agreement.

SUMMARY: The consent agreement in this matter settles alleged violations of federal law prohibiting unfair or deceptive acts or practices. The attached Analysis to Aid Public Comment describes both the allegations in the draft complaint and the terms of the consent order—embodied in the consent agreement—that would settle these allegations.

DATES: Comments must be received on or before March 2, 2015.

ADDRESSES: Interested parties may file a comment at https://ftcpublic.commentworks.com/ftc/craigbrittainconsent online or on paper, by following the instructions in the Request for Comment part of the SUPPLEMENTARY INFORMATION section below. Write “Craig Brittain—Consent Agreement; File No. 1323120” on your comment and file your comment online at https://ftcpublic.commentworks.com/ftc/craigbrittainconsent by following the instructions on the Web-based form. If you prefer to file your comment on paper, write “Craig Brittain—Consent Agreement; File No. 1323120” on your comment and on the envelope, and mail your comment to the following address: Federal Trade Commission, Office of the Secretary, 600 Pennsylvania Avenue NW., Suite CC-5610 (Annex D), Washington, DC 20580, or deliver your comment to the following address: Federal Trade Commission, Office of the Secretary, Constitution Center, 400 7th Street SW., 5th Floor, Suite 5610 (Annex D), Washington, DC 20024.

FOR FURTHER INFORMATION CONTACT: Melinda Claybaugh, Bureau of Consumer Protection, (202) 326-2203, 600 Pennsylvania Avenue NW., Washington, DC 20580.

SUPPLEMENTARY INFORMATION: Pursuant to Section 6(f) of the Federal Trade Commission Act, 15 U.S.C. 46(f), and FTC Rule 2.34, 16 CFR 2.34, notice is hereby given that the above-captioned consent agreement containing consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for January 29, 2015), on the World Wide Web, at http://www.ftc.gov/os/actions.shtm.

You can file a comment online or on paper. For the Commission to consider your comment, we must receive it on or before March 2, 2015. Write “Craig Brittain—Consent Agreement; File No. 1323120” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which . . . is privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).¹ Your comment will be kept confidential only if the FTC General Counsel, in his or her sole discretion, grants your request in accordance with the law and the public interest.

¹ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/craigbrittainconsent by following the instructions on the Web-based form. If this Notice appears at http://www.regulations.gov/#!home, you also may file a comment through that Web site.

If you file your comment on paper, write “Craig Brittain—Consent Agreement; File No. 1323120” on your comment and on the envelope, and mail your comment to the following address: Federal Trade Commission, Office of the Secretary, 600 Pennsylvania Avenue NW., Suite CC-5610 (Annex D), Washington, DC 20580, or deliver your comment to the following address: Federal Trade Commission, Office of the Secretary, Constitution Center, 400 7th Street SW., 5th Floor, Suite 5610 (Annex D), Washington, DC 20024. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before March 2, 2015. You can find more information, including routine uses permitted by the Privacy Act, in the Commission's privacy policy, at http://www.ftc.gov/ftc/privacy.htm.

Analysis of Proposed Consent Order To Aid Public Comment

The Federal Trade Commission has accepted, subject to final approval, a consent order applicable to respondent Craig Brittain.

The proposed consent order has been placed on the public record for thirty (30) days for receipt of comments by interested persons. Comments received during this period will become part of the public record. After thirty (30) days, the Commission will again review the agreement and the comments received, and will decide whether it should withdraw from the agreement and take appropriate action or make final the agreement's proposed order.

From November 2011 to April 2013, Respondent owned and operated the Web site www.isanybodydown.com, on which he posted personal information and photographs of individuals with their intimate parts exposed. Respondent used three different methods to obtain photographs for posting on the Web site. First, he requested that submitters send him nude photographs of other people along with personal information about the subject of each photograph, including the subject's first and last name, city, state, phone number, and link to their Facebook profile. Second, Respondent obtained photographs by posing as a woman on the Craigslist advertising Web site and, after sending women photographs purportedly of himself, solicited photographs of them with their intimate parts exposed in return. When they did provide such photographs, Respondent posted them on his Web site without their permission. Third, Respondent instituted a “bounty system” on the Web site, whereby anyone could request that others find and post photos of a specific person in exchange for a reward of at least $100. Respondent posted the photographs and personal information he obtained without the permission of the subject of each photograph. In some instances, he added other personal information about the subjects based on his own research. In total, Respondent posted photographs and accompanying personal information of more than 1,000 people, the vast majority of whom were women. Respondent also advertised content removal services called “Takedown Hammer” and “Takedown Lawyer,” which promised to remove consumers' content from the Web site for a substantial sum of money. In fact, Respondent himself owned these services, thereby attempting to obtain money to remove the same photographs that he had posted.

The Commission's complaint alleges two violations of the FTC Act. Count I alleges that Respondent unfairly disseminated photographs of individuals with their intimate parts exposed, along with personal information about them, for commercial gain and without the knowledge or consent of those depicted, despite the fact that he knew or should have known that the individuals had a reasonable expectation their image would not be disseminated in that manner. Count II alleges that Respondent deceptively solicited photographs from individuals of themselves with their intimate parts exposed by misrepresenting that he would use such photographs solely for his personal private use.

The proposed order contains provisions designed to prevent Respondent from engaging in the future in practices similar to those alleged in the complaint. Part I prohibits Respondent from disseminating, through a Web site or online service, a video or photograph of an individual with his or her intimate parts exposed without: (1) Disclosing to the individual that he will disseminate the image through a Web site and for commercial gain; and (2) obtaining affirmative express consent in writing from the individual for such dissemination.

Part II of the proposed order prohibits Respondent from, in connection with offering for sale any good or service, misrepresenting: (1) His collection, use, disclosure, or deletion of personal information; (2) his identity; or (3) the identity of those providing content or sponsoring advertising on a Web site. Part III of the proposed order prohibits Respondent from disclosing or benefitting from the images and personal information he obtained in connection with his Web site. Further, it requires him to destroy such images and personal information within 30 days of entry of the order.

Parts IV through VIII of the proposed order are reporting and compliance provisions. Part IV requires Respondent to retain documents relating to his compliance with the order for five years. Part V requires dissemination of the order to all current and future employees, agents, and representatives having responsibilities relating to the subject matter of the order. Part VI ensures notification to the FTC of changes in Respondent's business or employment. Part VII mandates that Respondent submit a compliance report to the FTC within 60 days, and periodically thereafter as requested. Part VIII is a provision “sunsetting” the order after 20 years, with certain exceptions.

The purpose of this analysis is to facilitate public comment on the proposed order. It is not intended to constitute an official interpretation of the proposed complaint or order or to modify the order's terms in any way.

By direction of the Commission.
Donald S. Clark,
Secretary.

[FR Doc. 2015-02375 Filed 2-5-15; 8:45 am]

BILLING CODE 6750-01-P